DEPARTMENT OF THE TREASURY

Submission for OMB Review; Comment Request

September 8, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before October 16, 2006 to be assured of consideration.

Federal Consulting Group

OMB Number: 1505-0190.

Type of Review: Extension.

Title: Terrorism Risk Insurance Program Rebuttal of Controlling Influence Submission.

Description: 31 CFR 50.8 specifies a rebuttal procedure that requires a written submission by an insurer that seeks to rebut a regulatory presumption of “controlling influence” over another insurer under the Terrorism Risk Insurance Program to provide Treasury with necessary information to make a determination.

Respondents: Private Sector.

Estimated Total Reporting Burden: 400 hours.

Clearance Officer: Howard Leiken, (202) 622-7139, Terrorism Risk Insurance Program, Department of the Treasury, 1525 New York Avenue, NW., Suite 2113, Washington, DC 20220.

OMB Reviewer: Alexander T. Hunt, (202) 395-7316, Office of Management and Budget, Room 10235, New Executive Office Building, Washington, DC 20503.

Michael A. Robinson,
Treasury PRA Clearance Officer.

[FR Doc. E6-15222 Filed 9-13-06; 8:45 am]

BILLING CODE 4810-25-P